DEPARTMENT OF HOMELAND SECURITY

8 CFR Part 208

[CIS No. 2791-25; DHS Docket No. USCIS-2020-0013]

RIN 1615-AC57

DEPARTMENT OF JUSTICE

Executive Office for Immigration Review

8 CFR Part 1208

[A.G. Order No. 6106-2024]

RIN 1125-AB08

Security Bars and Processing; Delay of Effective Date

AGENCY: U.S. Citizenship and Immigration Services (“USCIS”), Department of Homeland Security (“DHS”); Executive Office for Immigration Review (“EOIR”), Department of Justice (“DOJ”).

ACTION: Interim final rule with request for comments.

SUMMARY: On December 23, 2020, during the COVID-19 pandemic, the Department of Homeland Security (“DHS”) and the Department of Justice (“DOJ”) (collectively, “the Departments”) published a final rule entitled Security Bars and Processing (“Security Bars final rule”) to define “danger to the security of the United States” to include certain emergency public health concerns. The Departments have delayed the final rule's effective date such that it has never gone into effect. This rulemaking further delays the Security Bars final rule's effective date until December 31, 2025.

DATES:

Effective date: As of December 27, 2024, the effective date of the final rule published December 23, 2020, at 85 FR 84160, which was delayed by the rules published at 86 FR 6847 (Jan. 25, 2021), 86 FR 15069 (Mar. 22, 2021), 86 FR 73615 (Dec. 28, 2021), and 87 FR 79789 (Dec. 28, 2022), is further delayed until December 31, 2025.

Submission of public comments: Comments must be submitted on or before January 27, 2025.

ADDRESSES: You may submit comments on this rulemaking, identified by DHS Docket No. USCIS-2020-0013, through the Federal eRulemaking Portal at https://www.regulations.gov. Follow the website instructions for submitting comments. The electronic Federal Docket Management System will accept comments prior to midnight eastern time at the end of the day listed in the DATES section.

Comments submitted in a manner other than the one listed above, including emails or letters sent to the Departments' officials, will not be considered comments on the rule and may not receive a response from the Departments. Please note that the Departments cannot accept any comments that are hand-delivered or couriered. In addition, the Departments cannot accept comments contained on any form of digital media storage devices, such as CDs, DVDs, or USB drives. The Departments are not accepting mailed comments at this time. If you cannot submit your comment by using https://www.regulations.gov, please contact Samantha Deshommes, Chief, Regulatory Coordination Division, Office of Policy and Strategy, U.S. Citizenship and Immigration Services, Department of Homeland Security, by telephone at (240) 721-3000 for alternate instructions.

FOR FURTHER INFORMATION CONTACT:

For USCIS: Rená Cutlip-Mason, Chief, Division of Humanitarian Affairs, Office of Policy and Strategy, U.S. Citizenship and Immigration Services, Department of Homeland Security, 5900 Capital Gateway Drive, Camp Springs, MD 20588-0009; telephone (240) 721-3000 (not a toll-free call).

For EOIR: Sarah Flinn, Acting Assistant Director for Policy, Office of Policy, Executive Office for Immigration Review, Department of Justice, 5107 Leesburg Pike, Falls Church, VA 22041; telephone (703) 305-0289 (not a toll-free call).

SUPPLEMENTARY INFORMATION:

I. Public Participation

Interested parties are invited to comment on this action to further delay the effective date of the Security Bars final rule by submitting relevant written data, views, or arguments. To provide the most assistance to the Departments, comments should reference specific portions of the rule; explain the reason for any recommendation; and include data, information, or authority that supports the recommended course of action. Comments must be submitted in English, or an English translation must be provided. Comments submitted in a manner other than those listed above, including emails or letters sent to the Departments' officials, will not be considered comments on the rule and may not receive a response from the Departments.

Instructions: If you submit a comment, you must include the agency name and the DHS Docket No. USCIS-2020-0013 for this rulemaking. All submissions will be posted, without change, to the Federal eRulemaking Portal at https://www.regulations.gov and will include any personal information you provide. Therefore, submitting this information makes it public. You may wish to consider limiting the amount of personal information that you provide in any public comment submission you make to the Departments. The Departments may withhold information provided in comments from public viewing that they determine may impact the privacy of an individual or is offensive. For additional information, please read the Privacy and Security Notice available at https://www.regulations.gov.

Docket: For access to the docket and to read background documents or comments received, go to https://www.regulations.gov, referencing DHS Docket No. USCIS-2020-0013. You may also sign up for email alerts on the online docket to be notified when comments are posted or when the final rule is published.

II. Background

On December 23, 2020, during the COVID-19 pandemic, the Departments published the Security Bars final rule to amend existing regulations to provide that certain emergency public health concerns generated by a communicable disease constitute circumstances for which there are “reasonable grounds for regarding [a noncitizen ¹] as a danger to the security of the United States” or “reasonable grounds to believe that [a noncitizen] is a danger to the security of the United States,” making the noncitizen ineligible to be granted (1) asylum in the United States under section 208 of the Immigration and Nationality Act (“INA” or “the Act”), 8 U.S.C. 1158; (2) withholding of removal under section 241(b)(3) of the INA, 8 U.S.C. 1231(b)(3); and (3) withholding of removal under regulations implementing U.S. obligations under Article 3 of the Convention Against Torture and Other Cruel, Inhumane or Degrading Treatment or Punishment (“CAT”),² 8 CFR 208.16(c), 1208.16(c). See Security Bars and Processing, 85 FR 84160 (Dec. 23, 2020).

¹ The Departments use the term “noncitizen” to be synonymous with the term “alien” as it is used in the Immigration and Nationality Act. See INA 101(a)(3), 8 U.S.C. 1101(a)(3); 8 CFR 1001.1(gg).

² See Convention Against Torture and Other Cruel, Inhuman or Degrading Treatment or Punishment, art. 3, Dec. 10, 1984, 1465 U.N.T.S. 85, 114.

Although the Security Bars final rule was scheduled to take effect January 22, 2021, intervening events and circumstances have prompted the Departments to delay its effective date, most recently until December 31, 2024. See Security Bars and Processing; Delay of Effective Date, 86 FR 6847 (Jan. 25, 2021); Security Bars and Processing; Delay of Effective Date, 86 FR 15069 (Mar. 22, 2021); Security Bars and Processing; Delay of Effective Date, 86 FR 73615 (Dec. 28, 2021); Security Bars and Processing; Delay of Effective Date, 87 FR 79789 (Dec. 28, 2022) (“December 2022 Delay IFR” ³).

³ “IFR” means “interim final rule.”

In the December 2022 Delay IFR, the Departments explained that they were delaying the Security Bars final rule's effective date because its implementation would be infeasible due to a preliminary injunction ⁴ against another asylum-related rule, Procedures for Asylum and Withholding of Removal; Credible Fear and Reasonable Fear Review, 85 FR 80274 (Dec. 11, 2020) (“Global Asylum final rule”). 87 FR 79790-91. Further, the Departments determined that, as a result of a subsequent, intervening rulemaking, Procedures for Credible Fear Screening and Consideration of Asylum, Withholding of Removal, and CAT Protection Claims by Asylum Officers, 87 FR 18078 (Mar. 29, 2022) (“Asylum Processing IFR”), implementation of the Security Bars final rule would result in conflicting and confusing regulatory text. Id. at 79791-92. Finally, the Departments stated that delaying the effective date would permit the Departments time to engage in notice-and-comment rulemaking regarding whether to modify or rescind the Security Bars final rule. Id. at 79792-93.

⁴ See Pangea Legal Servs. v. U.S. Dep't of Homeland Sec., 512 F. Supp. 3d 966, 977 (N.D. Cal. 2021).

The Departments requested public comment on the second, third, and fourth delays and received comments addressing both the delay of the effective date and a potential proposal to modify or rescind the Security Bars final rule. In the December 2022 Delay IFR, the Departments addressed previously received comments related to the Security Bars final rule's delayed effective date. See id. at 79792-93 (discussing and responding to comments related to the delayed effective date).

The Departments received comments in response to the December 2022 Delay IFR. Relevant to the delayed effective date, most commenters urged the Departments to rescind the Security Bars final rule in its entirety, rather than issuing another delay. Specifically, commenters stated that repeated delays are an inefficient use of time and resources and that the Departments have had sufficient time to study the Security Bars final rule's legality and impact on asylum seekers. Commenters also expressed concern that further delay without rescission could allow the Security Bars final rule to go into effect if a future administration's priorities were to shift. Another commenter stated that rescission of the rule would not cause the Federal Government to incur any costs because the rule has never been implemented. Some commenters suggested that, if the Departments did not rescind the Security Bars final rule, they should delay the Security Bars final rule's effective date indefinitely or for a significant, extended period of time and suggested that other legal means should be used to manage concerns related to infectious diseases. In contrast, one comment, while not explicitly addressing the December 2022 Delay IFR, appeared to be generally supportive of the Security Bars final rule.

The Departments have considered the concerns raised by commenters. With respect to commenters' statements that the Departments should have had sufficient time to issue a rule during the most recent delay period, the Departments acknowledge that in the December 2022 Delay IFR, the Departments stated that they were working towards publication of a notice of proposed rulemaking (“NPRM”) to modify or rescind the Security Bars final rule. See 87 FR 79792 (“The Departments are working to publish a separate NPRM in the near future to solicit public comments on whether to modify or rescind the Security Bars rule. . . .”). At that time, the Departments also anticipated that delaying the effective date until December 31, 2024, would provide “sufficient time to complete notice-and-comment rulemaking to modify or rescind the Security Bars final rule, even in the event that circumstances require shifting departmental priorities and resources.” Id.

However, superseding regulatory priorities prevented completion of this anticipated rulemaking prior to December 31, 2024. See, e.g., Massachusetts v. E.P.A., 549 U.S. 497, 527 (2007) (“[A]n agency has broad discretion to choose how best to marshal its limited resources and personnel to carry out its delegated responsibilities.”). For example, since the publication of the December 2022 Delay IFR, the Departments issued the Circumvention of Lawful Pathways and Securing the Border rules. See, e.g., Securing the Border, 89 FR 81156 (Oct. 7, 2024); Circumvention of Lawful Pathways, 88 FR 31314 (May 16, 2023).

Accordingly, although the Departments have considered the comments on the December 2022 Delay IFR, the Departments have now determined—in light of the Departments' limited resources and intervening regulatory priorities as just discussed, and for the additional reasons described in Section III of this preamble—that a 1-year further delay of the effective date of the Security Bars final rule is appropriate. The Departments continue to welcome data, views, and information regarding the effective date of the Security Bars rule, including whether the rule should be delayed beyond December 31, 2025. The Departments are not seeking comments on whether the rule should be modified or rescinded or otherwise addressing the substance of the Security Bars final rule.

III. Additional Bases for Delay of Effective Date

Because of the resource constraints described in section II of this preamble, and for the following additional reasons, the Departments are further delaying the effective date of the Security Bars final rule until December 31, 2025.

A. The Security Bars Final Rule's Amendments Would Create Inconsistency

Since the December 2020 publication of the Security Bars final rule, the Departments have further issued additional rules involving the credible fear screening process and asylum eligibility to address important policy objectives. See, e.g., Asylum Processing IFR, 87 FR 18078; Circumvention of Lawful Pathways, 88 FR 31314; Application of Certain Mandatory Bars in Fear Screenings, 89 FR 41347 (May 13, 2024) ⁵ (“Mandatory Bars rule”); Securing the Border, 89 FR 81156. These rules have made significant changes to the credible fear screening process and to asylum eligibility more generally.

⁵ DHS published a final rule on this same topic. See Application of Certain Mandatory Bars in Fear Screenings, 89 FR 103370 (December 18, 2024).

Specifically, the Circumvention of Lawful Pathways rule, with certain exceptions, applies a rebuttable presumption of asylum ineligibility to noncitizens who arrive at the southwest land border and adjacent coastal borders within a prescribed period of time. See 88 FR 31314. Similarly, the Securing the Border rule, with an exception for exceptionally compelling circumstances, applies a limitation on asylum eligibility to certain noncitizens who arrive irregularly at the United States southern border during emergency border circumstances. See 89 FR 81156. Additionally, the Asylum Processing IFR allows USCIS asylum officers to adjudicate the asylum applications of noncitizens subject to expedited removal who are found to have a credible fear of persecution or torture. See 87 FR 18078. And the recently published Mandatory Bars rule, as finalized, allows asylum officers to consider the potential applicability of specified mandatory bars to asylum and statutory withholding of removal during fear screening processes. See 89 FR 41347 (NPRM).

These intervening rules and their impacts on the credible fear screening process necessitated further evaluation of their potential interplay with the Security Bars final rule. If the Security Bars final rule were allowed to go into effect, and if a public health situation triggered the bars outlined in the rule, many noncitizens entering the United States would likely be subject to the provisions of several of these rulemakings. This possibility requires further time for the Departments to consider the potential operational impacts of any procedural inconsistencies between the rules (such as those discussed below) and assess whether allowing the Security Bars final rule to go into effect is necessary or practicable.

Procedurally, the Security Bars final rule—if it were to take effect—would conflict with regulatory changes implemented by the intervening rulemakings, resulting in conflicting and confusing changes to the Departments' regulations. For example, in the December 2022 Delay IFR, the Departments explained that the subsequent publication of the Asylum Processing IFR would create conflicting and confusing regulatory text if the Security Bars final rule were to go into effect. See 87 FR 79791-92. Specifically, the Asylum Processing IFR amended certain regulations related to the credible fear screening process to return to the regulatory framework in place before the Global Asylum final rule was promulgated and to establish procedures for the newly created Asylum Merits interview process. Id. at 79792. Because the Security Bars final rule is founded upon the processes set forth in the Global Asylum final rule, allowing the Security Bars final rule to go into effect would add to the Code of Federal Regulations language from the Global Asylum final rule that the Departments have been enjoined from implementing and would result in conflicting regulatory provisions.

Similarly, the Circumvention of Lawful Pathways rule rescinded a separate final rule regarding transit through a third country entitled Asylum Eligibility and Procedural Modifications, 85 FR 82260 (Dec. 17, 2020) (“TCT Bar final rule”). This rescission required, among other changes, removing and reserving 8 CFR 208.30(e)(5)(iii), 208.13(c)(4), and 1208.13(c)(4). See 88 FR 31319. If the Security Bars final rule were to go into effect, its publication of 8 CFR 208.30(e)(5)(iii)—which included provisions implementing the Security Bars final rule and the now-enjoined Global Asylum final rule—would create conflicting and confusing regulatory text, as the remainder of the TCT Bar final rule was rescinded in the Circumvention of Lawful Pathways rule. Additionally, if the Security Bars final rule were to go into effect, its publication of cross-references to the now nonexistent 8 CFR 208.13(c)(4) and 1208.13(c)(4) would introduce inconsistencies in the regulations and create confusion as to the Departments' intended procedures for credible fear determinations.

Likewise, the Security Bars final rule would create procedural confusion because of its inconsistency with the Mandatory Bars rule as finalized. For example, under the Mandatory Bars rule, as finalized, if a noncitizen can establish a credible fear of torture, but appears subject to one or more specified mandatory bars to asylum or withholding of removal, then DHS must issue a Notice to Appear to initiate removal proceedings before an immigration judge or retain jurisdiction over the case for further consideration of the noncitizen's claim for deferral of removal under the CAT (“CAT deferral”). See 8 CFR 208.30(e)(5)(i) (as amended by the Mandatory Bars final rule). In contrast, the Security Bars final rule would publish § 208.30(e)(5)(iv), which contains an additional “more likely than not” CAT deferral screening standard for these same noncitizens. See 85 FR 84177-78, 84195. Thus, these differing provisions would create confusion over the proper procedures for these noncitizens, as one rule requires placement in removal proceedings or further consideration before DHS, while the other rule requires the noncitizen to first meet a higher CAT deferral screening standard.

The Security Bars final rule would also, if it were to take effect, elevate consideration of the now nonexistent regulatory bar created by the TCT Bar final rule above other potential bars that may be considered. See 85 FR 84198 (amending 8 CFR 1208.30 to state in paragraph (g)(1)(ii), another paragraph removed and reserved by the Circumvention of Lawful Pathways rule that would be reprinted if the Security Bars final rule were to go into effect, that an immigration judge “shall first review” any asylum officer determination that a noncitizen is ineligible for asylum under the TCT Bar final rule).

Therefore, the Departments are delaying the effective date of the Security Bars final rule to prevent these confusing and inconsistent changes from taking effect and to avoid the addition to the Code of Federal Regulations of any enjoined language from the Global Asylum final rule while the Departments consider further action on the rule.

B. There Would Be No Direct, Immediate Impact on Eligibility for Relief or Protection if the Security Bars Final Rule Takes Effect on December 31, 2024

The Departments have also concluded that there would be no direct, immediate impact on eligibility for asylum or other protection if the Security Bars final rule were to go into effect on December 31, 2024, because there is no existing public health situation that would trigger the bars outlined in the rule. This lack of any immediate impact supports further delay of the effective date of the Security Bars final rule while the Departments consider further action on the rule.

Specifically, the bars outlined in the Security Bars final rule could be triggered in two ways. The first way is “if a communicable disease has triggered an ongoing declaration of a public health emergency.” 85 FR 84193-94, 84197. No such emergency currently exists.

Second, the bars could be triggered if, “regarding a communicable disease of public health significance as defined at 42 CFR 34.2(b), the Secretary [of Homeland Security] and the Attorney General, in consultation with the Secretary of Health and Human Services, have jointly . . . [d]etermined” that the physical presence in the United States of individuals from affected regions “would cause a danger to the public health,” such that the situation warrants designating noncitizens within the incubation and contagion period of the disease “a danger to the security of the United States.” 85 FR 84193-94, 84196-97. Although a number of “communicable disease[s] of public health significance” within the meaning of 42 CFR 34.2(b) exist in the world today, the Centers for Disease Control and Prevention (“CDC”) has not determined that current health conditions warrant issuance of its most severe type of Travel Health Notice for any geographic area.⁶ In the absence of such conditions, the Departments do not have a current basis for making the determinations required to trigger the bars outlined in the Security Bars final rule—which in effect create an asylum bar based on a general geographic designation. In addition, the Federal Government has measures to address potential public health risks, such as routing international flights from areas with known outbreaks to specific airports and conducting public health screenings of passengers at those airports.⁷ Hence, because the bars would not currently be triggered if the Security Bars final rule went into effect, the Departments believe that the rule is unnecessary in the short term.

⁶ See, e.g., CDC, Addendum to the Technical Instructions for Medical Examination of Aliens: Communicable Diseases of Public Health Significance (May 15, 2024), https://www.cdc.gov/immigrant-refugee-health/hcp/panel-physicians/communicable-diseases-addendum.html; CDC, Travelers' Health: Travel Health Notices (last reviewed Nov. 22, 2024), https://wwwnc.cdc.gov/travel/notices.

⁷ See, e.g., U.S. Dep't of Health & Human Servs., Fact Sheet: HHS Actions to Support Response to Marburg Outbreak in Rwanda (Oct. 7, 2024), https://www.hhs.gov/about/news/2024/10/07/fact-sheet-hhs-actions-to-support-response-marburg-outbreak-in-rwanda.html.

The Departments acknowledge that some commenters suggested that an indefinite delay or a very long delay would be appropriate if the Security Bars final rule were not rescinded. But the Departments believe that a delay of only 1 year is appropriate. The rule has already been delayed for a substantial period, and the Departments project that a 1-year delay will suffice to determine what further regulatory steps best balance the relevant interests. And, as noted above, the Departments welcome comments on whether a delay beyond December 31, 2025, would be appropriate.

IV. Statutory and Regulatory Requirements

A. Administrative Procedure Act

Under the Administrative Procedure Act (“APA”), agencies must generally provide “notice of proposed rule making” in the Federal Register and, after such notice, “give interested persons an opportunity to participate in the rule making through submission of written data, views, or arguments.” 5 U.S.C. 553(b) and (c). The Departments satisfied this notice requirement through the December 2022 Delay IFR, which indicated the possibility of a future delay of the effective date of the Security Bars final rule and requested comments on such a potential future delay. 87 FR 79793. In the December 2022 Delay IFR, the Departments explicitly stated that they “continue to welcome data, views, and information regarding the effective date of the Security Bars [final] rule” and specifically “solicit[ed] comments on whether the effective date should be delayed beyond December 31, 2024.” Id.

In addition, the Departments have considered the comments received in response to the December 2022 Delay IFR and have concluded—for the reasons explained in Sections II and III of this preamble—that, notwithstanding certain comments to the contrary, a 1-year delay is appropriate. The agencies have accordingly satisfied any obligation under the APA to consider and respond to the comments received. See Perez v. Mortg. Bankers Ass'n, 575 U.S. 92, 96 (2015) (“An agency must consider and respond to significant comments received during the period for public comment.”).

The Departments have also determined that good cause exists to forego the APA's procedures that generally require a delay between a final rule's publication and its effective date. See 5 U.S.C. 553(d)(3) (providing that “[t]he required publication or service of a substantive rule shall be made not less than 30 days before its effective date . . . except as otherwise provided by the agency for good cause found and published with the rule”). The purpose of this delay is “to give affected parties time to adjust their behavior before the final rule takes effect.” Riverbend Farms, Inc. v. Madigan, 958 F.2d 1479, 1485 (9th Cir. 1992); see also H.R. Rep. No. 79-1980, at 25 (1946) (similar). Here, however, that purpose would not be served by a delay before effectuating this IFR, given that this IFR merely preserves the status quo by further delaying the effective date of the Security Bars final rule. Accordingly, this IFR does not require any parties to change their conduct or take any particular steps in advance of the IFR's effective date. See United States v. Gavrilovic, 551 F.2d 1099, 1104 & n.9 (8th Cir. 1977) (noting that the legislative history of the APA indicates that the waiting period “was not intended to unduly hamper agencies from making a rule effective immediately,” but intended “to `afford persons affected a reasonable time to prepare for the effective date of a rule . . . or to take any other action which the issuance of rules may prompt' ” (quoting S. Rep. No. 79-752, at 15 (1946))).

B. Executive Order 12866 (Regulatory Planning and Review), Executive Order 13563 (Improving Regulation and Regulatory Review), and Executive Order 14094 (Modernizing Regulatory Review)

Executive Order 12866 (“Regulatory Planning and Review”), as amended by Executive Order 14094 (“Modernizing Regulatory Review”), and Executive Order 13563 (“Improving Regulation and Regulatory Review”), directs agencies to assess the costs and benefits of available regulatory alternatives and, if regulation is necessary, to select regulatory approaches that maximize net benefits (including potential economic, environmental, public health, and safety effects, distributive impacts, and equity). Executive Order 13563 emphasizes the importance of quantifying both costs and benefits, reducing costs, harmonizing rules, and promoting flexibility. The Office of Information and Regulatory Affairs of the Office of Management and Budget has determined that this rule is “significant” under Executive Order 12866 and has reviewed this regulation.

C. Regulatory Flexibility Act

The Departments have reviewed this rule in accordance with the Regulatory Flexibility Act, Public Law 96-354, 94 Stat. 1164 (1980), as amended (codified at 5 U.S.C. 601 et seq.) and have determined that this rule will not have a significant economic impact on a substantial number of small entities. The rule does not regulate “small entit[ies]” as that term is defined in 5 U.S.C. 601(6). Only individuals, rather than entities, may seek asylum or withholding or deferral of removal, and only individual noncitizens are otherwise placed in immigration proceedings.

D. Unfunded Mandates Reform Act of 1995

This rule will not result in the expenditure by State, local, and Tribal governments, in the aggregate, or by the private sector, of $100 million or more in any one year, adjusted for inflation, and it will not significantly or uniquely affect small governments. Therefore, no actions were deemed necessary under the provisions of the Unfunded Mandates Reform Act of 1995, Public Law 104-4, 109 Stat. 48; see also 2 U.S.C. 1532(a).

E. Congressional Review Act

This rule does not meet the criteria set forth in 5 U.S.C. 804(2).

F. Executive Order 13132 (Federalism)

This rule will not have substantial direct effects on the States, on the relationship between the National Government and the States, or on the distribution of power and responsibilities among the various levels of government. Therefore, in accordance with section 6 of Executive Order 13132, the Departments have determined that this rule does not have sufficient federalism implications to warrant the preparation of a federalism summary impact statement.

G. Executive Order 12988 (Civil Justice Reform)

This rule meets the applicable standards set forth in sections 3(a) and 3(b)(2) of Executive Order 12988.

H. Family Assessment

The Departments have assessed this rule in accordance with section 654 of the Treasury General Appropriations Act, 1999, Public Law 105-277, div. A, 112 Stat. 2681, 2681-528, and have determined that, because the Security Bars final rule is not in effect, further delaying the rule would not affect family well-being. Further, even as compared to a world in which the Security Bars final rule is allowed to go into effect on December 31, 2024, the Departments believe further delay of the rule will not affect family well-being because, as described in section III.B of this preamble, there are no current public health conditions that would trigger the bars outlined in the rule.

I. Executive Order 13175 (Consultation and Coordination With Indian Tribal Governments)

This rule does not have Tribal implications under Executive Order 13175 because it would not have a substantial direct effect on one or more Indian Tribes, on the relationship between the Federal Government and Indian Tribes, or on the distribution of power and responsibilities between the Federal Government and Indian Tribes.

J. Executive Order 13045 (Protection of Children From Environmental Health Risks and Safety Risks)

Executive Order 13045 requires agencies to consider the impacts of environmental health risks or safety risks that may disproportionately affect children. The Departments have reviewed this rule and have determined that this rule is not a covered regulatory action under Executive Order 13045. The rule is not considered economically significant and does not create an environmental risk to health or a risk to safety that might disproportionately affect children.

K. Paperwork Reduction Act

This rule does not promulgate new, or revise existing, “collection[s] of information” as that term is defined under the Paperwork Reduction Act of 1995, Public Law 104-13, 109 Stat. 163, 44 U.S.C. chapter 35, and its implementing regulations, 5 CFR part 1320.

Alejandro N. Mayorkas,
Secretary, U.S. Department of Homeland Security.
Dated: December 17, 2024.
Merrick B. Garland,
Attorney General, U.S. Department of Justice.

[FR Doc. 2024-30774 Filed 12-20-24; 8:45 am]

BILLING CODE 9111-97-P; 4410-30-P